DEPARTMENT OF ENERGY

Federal Energy Regulatory Commission

[Docket No. IC16-12-000]

Commission Information Collection Activities (FERC-511, FERC-515, and FERC-574); Consolidated Comment Request; Extension

AGENCY: Federal Energy Regulatory Commission.

ACTION: Notice of information collections and request for comments.

SUMMARY: In compliance with the requirements of the Paperwork Reduction Act of 1995, 44 U.S.C. 3506(c)(2)(A), the Federal Energy Regulatory Commission (Commission or FERC) is soliciting public comment on the requirements and burden of the information collections described below.

DATES: Comments on the collections of information are due September 12, 2016.

ADDRESSES: You may submit comments (identified by Docket No. IC16-12-000) by either of the following methods:

• eFiling at Commission's Web site: http://www.ferc.gov/docs-filing/efiling.asp.

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost ¹ of the collections of information, including the validity of the methodology and assumptions used; (3) ways to enhance the quality, utility and clarity of the information collections; and (4) ways to minimize the burden of the collections of information on those who are to respond, including the use of automated collection techniques or other forms of information technology.

¹ The Commission defines burden as the total time, effort, or financial resources expended by persons to generate, maintain, retain, or disclose or provide information to or for a Federal agency. For further explanation of what is included in the information collection burden, refer to 5 Code of Federal Regulations 1320.3.

For the FERC-511, FERC-515, and FERC-574, the Commission staff believes that industry is similarly situated to FERC in terms of average wages and benefits. For the hourly burden cost, we are using the FERC 2016 average cost (wages plus benefits) of $74.50/hour.

FERC-511, Transfer of Electric License

OMB Control No.: 1902-0069.

Type of Request: Three-year extension of the FERC-511 information collection requirements with no changes to the current reporting requirements.

Abstract: The Commission uses the information collected under the requirements of FERC-511 to implement the statutory provisions of Sections 4(e) and 8 of the Federal Power Act (FPA).² Section 4(e) authorizes the Commission to issue licenses for the construction, operation and maintenance of reservoirs, powerhouses, and transmission lines or other facilities necessary for the development and improvement of navigation and for the development, transmission, and utilization of power.³ Section 8 of the FPA provides that the voluntary transfer of any license is made only with the written approval of the Commission. Any successor to the licensee may assign the rights of the original licensee but is subject to all of the conditions of the license. The information filed with the Commission is a mandatory requirement contained in the format of a written application for transfer of license, executed jointly by the parties of the proposed transfer. The sale or merger of a licensed hydroelectric project may occasion the transfer of a license. The Commission's staff uses the information collection to determine the qualifications of the proposed transferee to hold the license and to prepare the transfer of the license order. Approval by the Commission of transfer of a license is contingent upon the transfer of title to the properties under license, delivery of all license instruments, and evidence that such transfer is in the public interest. The Commission implements these filing requirements in the Code of Federal Regulations (CFR) under 18 CFR part 9.

² 16 U.S.C. 797(e) and 801.

³ Refers to facilities across, along, from, or in any of the streams or other bodies of water over which Congress has jurisdiction under its authority to regulate commerce with foreign nations and among the several States, or upon any part of public lands and reservations of the United States, or for the purpose of utilizing the surplus water or water power from any Government dam.

Type of Respondents: Hydropower Project Licensees.

Estimate of Annual Burden: The Commission estimates the annual public reporting burden for the information collection as:

FERC-511—Transfer of Electric License
| Number of respondents | Annual number of responses per respondent | Total number of responses | Average burden hours & cost per response | Total annual burden hours & total annual cost | Cost per respondent
| (1) | (2) | (1)*(2)=(3) | (4) | (3)*(4)=(5) | (5)÷(1)
Hydropower Project Licensees | 46 | 1 | 46 | 40 hrs.; $2,980 | 1,840 hrs.; $137,080 | $2,980

FERC-515, Rules of Practice and Procedure: Declaration of Intention

OMB Control No.: 1902-0079.

Type of Request: Three-year extension of the FERC-515 information collection requirements with no changes to the current reporting requirements.

Abstract: The Commission uses the information collected under the requirements of FERC-515 to implement the statutory provisions of section 23(b) of the Federal Power Act (FPA).⁴ Section 23(b) authorizes the Commission to make a determination as to whether it has jurisdiction over a proposed water project ⁵ not affecting navigable waters ⁶ but across, along, over, or in waters over which Congress has jurisdiction under its authority to regulate commerce with foreign nations and among the several States. Section 23(b) requires that any person intending to construct project works on such waters must file a declaration of their intention with the Commission. If the Commission finds the proposed project will have an impact on interstate or foreign commerce, then the entity intending to construct the project must obtain a Commission license or exemption before starting construction.⁷ The information is collected in the form of a written application, containing sufficient details to allow the Commission staff to research the jurisdictional aspects of the project. This research includes examining maps and land ownership records to establish whether or not there is Federal jurisdiction over the lands and waters affected by the project. A finding of non-jurisdictional by the Commission eliminates a substantial paperwork burden for the applicant who might otherwise have to file for a license or exemption application. The Commission implements these filing requirements under 18 CFR part 24.

⁴ 16 U.S.C. 817.

⁵ Dams or other project works. (See 16 U.S.C. 817.)

⁶ See 16 U.S.C. 796(8) for the definition of “Navigable Waters.”

⁷ Upon a finding of non-jurisdictional by the Commission, and if the project does not utilize surplus water or waterpower from a government dam and no public lands or reservations are affected, permission is granted upon compliance with State laws.

Type of Respondents: Persons intending to construct project works on certain waters described above.

Estimate of Annual Burden: The Commission estimates the annual public reporting burden for the information collection as:

FERC-515—Rules of Practice and Procedure: Declaration of Intention
Number of respondents | Annual number of responses per respondent | Total number of responses | Average burden hours & cost per response | Total annual burden hours & total annual cost | Cost per respondent ($)
(1) | (2) | (1)*(2)=(3) | (4) | (3)*(4)=(5) | (5)÷(1)
6 | 1 | 6 | 80 hrs.; $5,960 | 480 hrs.; $35,760 | $5,960

FERC-574, Gas Pipeline Certificates: Hinshaw Exemption

OMB Control No.: 1902-0116.

Type of Request: Three-year extension of the FERC-574 information collection requirements with no changes to the current reporting requirements.

Abstract: The Commission uses the information collected under the requirements of FERC-574 to implement the statutory provisions of sections 1(c), 4 and 7 of the Natural Gas Act (NGA).⁸ Natural gas pipeline companies file applications with the Commission furnishing information in order to facilitate a determination of an applicant's qualification for an exemption under the provisions of the section 1(c). If the Commission grants exemption, the natural gas pipeline company is not required to file certificate applications, rate schedules, or any other applications or forms prescribed by the Commission.

⁸ 15 U.S.C. 717-717w.

The exemption applies to companies engaged in the transportation, sale, or resale of natural gas in interstate commerce if: (a) They receive gas at or within the boundaries of the state from another person at or within the boundaries of that state; (b) such gas is ultimately consumed in such state; (c) the rates, service and facilities of such company are subject to regulation by a State Commission; and (d) that such State Commission is exercising that jurisdiction. 18 CFR part 152 specifies the data required to be filed by pipeline companies for an exemption.

Type of Respondents: Pipeline companies.

Estimate of Annual Burden: The Commission estimates the annual public reporting burden for the information collection as:

FERC-574—Gas Pipeline Certificates: Hinshaw Exemption
| Number of respondents | Annual number of responses per respondent | Total number of responses | Average burden & cost per response | Total annual burden hours & total annual cost | Cost per respondent ($)
| (1) | (2) | (1)*(2)=(3) | (4) | (3)*(4)=(5) | (5)÷(1)
Pipeline Companies | 1 | 1 | 1 | 60 hrs.; $4,470 | 60 hrs.; $4,470 | $4,470

Dated: July 5, 2016.
Kimberly D. Bose,
Secretary.

[FR Doc. 2016-16397 Filed 7-11-16; 8:45 am]

BILLING CODE 6717-01-P